DEPARTMENT OF AGRICULTURE

Agricultural Marketing Service

7 CFR Part 1211

[Doc. No. AMS-FV-11-0074; PR-A1, A2, B and B2]

Hardwood Lumber and Hardwood Plywood Promotion, Research and Information Order; Termination of Rulemaking Proceeding

AGENCY: Agricultural Marketing Service, USDA.

ACTION: Termination of proceeding.

SUMMARY: This action terminates a rulemaking proceeding that proposed to establish a Hardwood Lumber and Hardwood Plywood Promotion, Research and Information Order (Order) under authority in the Commodity Promotion, Research and Information Act of 1996 (1996 Act). The Order was proposed by the proponent group, the Blue Ribbon Committee (BRC), and would have authorized a national research and promotion program for hardwood lumber and hardwood plywood. USDA issued a supplemental notice of proposed rulemaking in response to the extensive comments received. Based on comments received, outstanding substantive questions and significant proposed modifications from stakeholders, USDA is terminating the proceeding. Termination of this proceeding will remove ex parte communication prohibitions and allow USDA to engage fully with all interested parties to discuss and consider the evolving needs of the industry going forward.

DATES: This termination is made on October 29, 2015.

FOR FURTHER INFORMATION CONTACT: Patricia A. Petrella, Promotion and Economics Division, Specialty Crops Program, AMS, USDA, 1400 Independence Avenue SW., Room 1406-S, Stop 0244, Washington, DC 20250-0244; Telephone: (301) 334-2891, Fax: (301) 334-2896, or Email: Patricia.Petrella@ams.usda.gov.

SUPPLEMENTARY INFORMATION: Prior documents in this proceeding include: A proposed rule published in the Federal Register on November 13, 2013 (78 FR 68298), which provided a 60-day comment period that ended on January 13, 2014. On January 16, 2014, a notice was published in the Federal Register that reopened and extended the comment period until February 18, 2014 (79 FR 2805). A supplemental notice of proposed rulemaking was published in the Federal Register on June 9, 2015 (80 FR 32493). On July 1, 2015, a notice was published in the Federal Register that extended the comment period until September 7, 2015 (80 FR 37555).

Preliminary Statement

In June 2011, USDA received a proposal for a national research and promotion program for hardwood lumber and hardwood plywood from the BRC. The BRC is a committee of 14 hardwood lumber and hardwood plywood industry leaders representing small and large manufacturers geographically distributed throughout the United States.

The BRC proposed a program that would be financed by an assessment on hardwood lumber and hardwood plywood manufacturers and administered by a board of industry members selected by the Secretary. The purpose of the program would be to strengthen the position of hardwood lumber and hardwood plywood in the marketplace and maintain and expand markets for hardwood lumber and hardwood plywood.

A proposed rule was published in the Federal Register on November 13, 2013, which provided a 60-day comment period that ended on January 13, 2014. On January 16, 2014, a notice was published in the Federal Register that reopened and extended the comment period until February 18, 2014. In response to the proposed rule, USDA received over 900 comments; a significant majority of the comments opposed the proposed program. In order to address the voluminous comments, USDA issued a supplemental notice of proposed rulemaking on June 9, 2015, which reopened the comment period only with respect to specific issues. The comment period was extended until September 7, 2015, by a notice in the Federal Register on July 1, 2015. In response to the supplemental notice, USDA received over 300 comments; a majority of the comments continued to oppose the program. Based on all the comments received, outstanding substantive questions and significant proposed modifications to the proposed program from stakeholders, USDA is terminating the proceeding. This action also terminates the proposed rules on the referendum procedures.

Termination of this proceeding will remove ex parte communication prohibitions and allow USDA to engage fully with all interested parties to discuss and consider the evolving needs of the industry going forward. Based on the above, USDA is terminating this rulemaking proceeding.

Regulatory Flexibility Act and Paperwork Reduction Act

As part of the proceeding conducted for this rulemaking, the provisions of the Regulatory Flexibility Act (5 U.S.C. 601-612) and the Paperwork Reduction Act of 1955 (Pub. L. 104-13) were considered. Because this action terminates the underlying rulemaking proceeding, the economic conditions of small entities are not changed as a result of this action, nor have any compliance requirements changed. Also, this action does not provide for any new or changed reporting and recordkeeping requirements. Accordingly, all supporting forms for the proposed program will be withdrawn.

Termination of Proceeding

In view of the foregoing, it is hereby determined that the proceeding proposing a national research and promotion program for hardwood lumber and hardwood plywood should be and is hereby terminated.

List of Subjects in 7 CFR Part 1211

Administrative practice and procedure, Advertising, Consumer information, Marketing agreements, Hardwood lumber promotion, Hardwood plywood promotion, Reporting and recordkeeping requirements.

Authority: 7 U.S.C. 7411-7425; 7 U.S.C. 7401.

Dated: October 23, 2015.
Rex A. Barnes,
Associate Administrator, Agricultural Marketing Service.

[FR Doc. 2015-27448 Filed 10-27-15; 8:45 am]

BILLING CODE 3410-02-P